DEPARTMENT OF COMMERCE

National Oceanic and Atmospheric Administration

RIN 0648-XF804

Mid-Atlantic Fishery Management Council (MAFMC); Meeting

AGENCY: National Marine Fisheries Service (NMFS), National Oceanic and Atmospheric Administration (NOAA), Commerce.

ACTION: Notice; public meeting.

SUMMARY: The Mid-Atlantic Fishery Management Council's (MAFMC) Ecosystem and Ocean Planning Committee will hold a public meeting.

DATES: The meeting will be held on Friday, December 1, 2017, from 10 a.m. to 4 p.m. For agenda details, see SUPPLEMENTARY INFORMATION.

ADDRESSES: The meeting will be held at the Hilton Garden Inn BWI Airport, 1516 Aero Drive, Linthicum, MD 21090; telephone: (410)-691-0500.

Council address: Mid-Atlantic Fishery Management Council, 800 N. State Street, Suite 201, Dover, DE 19901; telephone: (302) 674-2331 or on their Web site at www.mafmc.org.

FOR FURTHER INFORMATION CONTACT: Christopher M. Moore, Ph.D., Executive Director, Mid-Atlantic Fishery Management Council; telephone: (302) 526-5255.

SUPPLEMENTARY INFORMATION: The purpose of the meeting is to review and approve the EAFM based risk assessment for the Mid-Atlantic fishery resources which has been under development since early 2017. The Committee will review the final list of elements and the evaluation of risk posed by each element as recommended by Council staff. The Committee will make recommendations to the full Council for consideration at its December meeting in Annapolis, MD.

Special Accommodations

The meeting is physically accessible to people with disabilities. Requests for sign language interpretation or other auxiliary aid should be directed to M. Jan Saunders, (302) 526-5251, at least 5 days prior to the meeting date.

Dated: November 14, 2017.
Tracey L. Thompson,
Acting Deputy Director, Office of Sustainable Fisheries, National Marine Fisheries Service.

[FR Doc. 2017-24956 Filed 11-16-17; 8:45 am]

BILLING CODE 3510-22-P